DEPARTMENT OF STATE

[Public Notice 11139]

60-Day Notice of Proposed Information Collection: J-1 Visa Waiver Recommendation Application

ACTION: Notice of request for public comment.

SUMMARY: The Department of State is seeking Office of Management and Budget (“OMB”) approval for the information collection described below. In accordance with the Paperwork Reduction Act of 1995, we are requesting comments on this collection from all interested individuals and organizations. The purpose of this notice is to allow 60 days for public comment preceding submission of the collection to OMB.

DATES: The Department will accept comments from the public up to August 14, 2020.

ADDRESSES: You may submit comments by any of the following methods:

• Web: Persons with access to the internet may comment on this notice by going to www.Regulations.gov. You can search for the document by entering “Docket Number: DOS-2020-0025” in the Search field. Then click the “Comment Now” button and complete the comment form.

• Email: PRA_BurdenComments@state.gov.

You must include the DS form number (if applicable), information collection title, and the OMB control number in any correspondence.

FOR FURTHER INFORMATION CONTACT: Direct requests for additional information regarding the collection listed in this notice to Taylor Beaumont, who may be reached over telephone at (202) 485-8910 or email at PRA_BurdenComments@state.gov.

SUPPLEMENTARY INFORMATION:

• Title of Information Collection: J-1 Visa Waiver Recommendation Application.

• OMB Control Number: 1405-0135.

• Type of Request: Extension of a Currently Approved Collection.

• Originating Office: Bureau of Consular Affairs, Visa Office (CA/VO/L/R).

• Form Number: DS-3035.

• Respondents: J-1 visa holders applying for a waiver of the two-year foreign residence requirement.

• Estimated Number of Respondents: 8,139.

• Estimated Number of Responses: 8,139.

• Average Time per Response: 1 hour.

• Total Estimated Burden Time: 8,139 hours.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

The Department of State uses Form DS-3035 to assess the eligibility of a J-1 visa holder for a waiver of the two-year foreign residence requirement, and to issue a recommendation of whether the Department of Homeland Security should grant a waiver of that requirement.

Methodology:

Applicants will complete the DS-3035 online. An applicant's information will be downloaded into a barcode, and then a waiver case number and further instructions will be immediately issued. Next, applicants must print their online form with the barcode. Please note that the barcode must be printed in black and white only. After the DS-3035 is completed and printed out, applicants must mail their waiver application and fee payment to: Department of State J-1 Waiver, P.O. Box 979037, St. Louis, MO 63197-9000.

Edward J. Ramotowski,
Deputy Assistant Secretary, Bureau of Consular Affairs, Department of State.

[FR Doc. 2020-12825 Filed 6-12-20; 8:45 am]

BILLING CODE 4710-06-P